DEPARTMENT OF THE INTERIOR

National Park Service

36 CFR Part 73

RIN 1024-AC74

World Heritage Convention

AGENCY: National Park Service, Interior.

ACTION: Interim rule.

SUMMARY: We are promulgating an interim rule to correct elements in two sections of the United States World Heritage Program regulations (Section 7 World Heritage Nomination Process and Section 9 World Heritage Criteria). We are making these changes to eliminate an obsolete calendar for the preparation and submission of United States nominations to the World Heritage List and to replace outdated criteria for nomination of sites. Also the name of the U.S. House of Representatives Resources Committee, the successor to the Committee on Interior and Insular Affairs, is being substituted for its predecessor in the same sections. We intend the changed sections to provide current information to the public and agencies of government at all levels on how the United States nominates sites to the World Heritage List established by the World Heritage Convention.

DATES: This rule becomes effective November 19, 2001. Comments must be received on or before January 18, 2002.

ADDRESSES: You may submit your comments to: Chief, Office of International Affairs, National Park Service, 1849 C Street, NW., Room 2252, Washington, DC 20240. E-mail: James_Charleton@nps.gov. Fax: (202) 208-1290.

FOR FURTHER INFORMATION CONTACT: James Charleton, International Cooperation Specialist, 1849 C Street, NW., Room 2252, Washington, DC 20240. Phone: (202) 565-1280. E-mail: James_Charleton@nps.gov.

SUPPLEMENTARY INFORMATION:

Background

The World Heritage Program regulations describe the policies and procedures which the Department of the Interior uses to carry out the program authorized by Congress in accordance with the World Heritage Convention (hereafter known as “Convention”), a treaty ratified by the United States Senate in 1973. The World Heritage Program is an international listing program for recognizing universally important natural areas and cultural sites in sovereign nations around the world. One of the major national activities under the Convention is the nomination of sites proposed voluntarily by their owners to the World Heritage List. Elements in two sections of the regulations that deal with the United States nomination process are no longer accurate or applicable. We are publishing this revised rule to correct these elements and make current and accurate information available to the public.

The changes eliminate an obsolete calendar for the preparation and submission of United States nominations to the World Heritage List and replace outdated criteria for nominating sites. Both the calendar and the criteria, which the United States has played a role in determining, are established and have been changed by the World Heritage Committee (hereafter known as “Committee”). First, the United States calendar has been based on a fixed annual nomination submission deadline to the World Heritage Centre of January 1, which beginning in 2002, will be February 1 of a given year for consideration in the summer of the following year. The Committee has altered this date several times for administrative reasons and may again change it. In our revision, therefore, we have set up the U.S. nomination calendar to run independently of the Committee's deadlines for submittal of nominations. That means that we will submit nominations to the World Heritage Centre when the United States has approved them, regardless of when in the calendar that occurs. When we submit them, we will request that the Committee consider them in the next available review cycle. Second, the revision of the criteria for nominating sites means that those who prepare future nominations must use the new criteria.

If this revised rule is not published, those who consult the program regulations will continue to rely on inaccurate information about the program calendar and criteria for consideration. If they do so, consideration of their proposals for nominations might be delayed by as much as a year. The discrepancies between the current regulations and the procedures actually in effect have led to confusion, which we intend the changes in this rule to eliminate.

We intend to make further revisions in the World Heritage regulations to enhance public participation, including more explicit procedures for public participation and more extensive notification to potentially interested parties of the actions we take, than the current regulations require. When we do so, we will use general notice and comment rulemaking with full public involvement.

Authority

We are promulgating this rule pursuant to the Secretary of the Interior's authority under Title IV of the National Historic Preservation Amendments of 1980 (Pub. L. 96-515; 94 Stat. 3000; 15 U.S.C. 470a-1, a-2) which authorizes the Secretary of the Interior, in cooperation with the Secretary of State, the Smithsonian Institution, and the Advisory Council on Historic Preservation, to ensure and direct United States participation in the World Heritage Convention (Convention Concerning the Protection of the World Cultural and Natural Heritage), approved by the United States Senate on October 26, 1973.

Interim Rulemaking

You can find definitive official guidance for the World Heritage Program's policy and procedures only in these program regulations. Information sheets, websites, and other means of presenting this information as informal agency guidelines do not carry the force of law that accompanies formal rules that are published as part of the Code of Federal Regulations. Taking no action in this case means that the public will continue to receive and rely on outdated information.

The purpose of this rulemaking is to provide current information to parties interested in the program as soon as possible. For this reason, the interim rule needs to be effective upon the date of publication.

We intend this rulemaking action to provide current and accurate information to government agencies and the public that is necessary for them to participate in the World Heritage nomination process in a meaningful way.

We are promulgating this interim rule under the “good cause” exception of the Administrative Procedure Act (5 U.S.C. 553(b)(B)) from general notice and comment rulemaking. As discussed above, we believe that this exception is warranted because of the need to inform the public in as timely a manner as possible.

Based upon this discussion, we find pursuant to 5 U.S.C. 533(b)(B) that it would be contrary to the public interest to publish a notice of proposed rulemaking. We are, however, soliciting comments and will review comments and consider making changes to the rule based upon an analysis of comments.

Further, in accordance with the Administrative Procedure Act (5 U.S.C. 531 et seq.), we have determined that publishing this interim rule 30 days prior to the rule becoming effective would further delay the dissemination of current information to users of the regulations. This would be contrary to the public interest and the intended purpose of the rule. Therefore, under the “good cause” exception of the Administrative Procedure Act (5 U.S.C. 553(d)(3)), and as discussed above, we have determined that this interim rulemaking is excepted from the 30-day delay of effective date, and shall therefore become effective upon the date published in the Federal Register.

Because we are soliciting comments as discussed above, we plan to analyze the comments received and include and consider the results in proposed further rulemaking, as appropriate.

Public Participation

Our policy is, whenever practicable, to afford the public an opportunity to participate in the rulemaking process. However, given the urgent need to disseminate accurate information concerning the schedule for consideration of World Heritage nominations and the criteria for their selection, we have determined that it is contrary to the public interest to delay the effective date of this interim rule pending public comment.

Nevertheless, you are invited to submit written comments or suggestions regarding this interim rule to us at the address noted at the beginning of this rulemaking. Your comments must be received on or before January 18, 2002. We will review comments and consider making changes to the rule based upon the analysis of comments.

Drafting Information

The primary author of this rule is James Charleton, Office of International Affairs, National Park Service, Washington, DC.

Compliance With Other Laws

Regulatory Planning and Review (Executive Order 12866)

In accordance with the criteria in Executive Order 12866, this rule is not a significant regulatory action and is not subject to review by the Office of Management and Budget.

(1) This rule will not have an annual economic effect of $100 million or more on the economy. It will not adversely affect in a material way the economy, productivity, competition, jobs, the environment, public health or safety, or State, local, or tribal governments or communities.

A cost-benefit and economic analysis is not required. The revisions to existing regulations will modestly improve the administration of the World Heritage Program by providing current and accurate information to voluntary participants in the public, other Federal agencies, and other levels of government.

(2) This rule will not create a serious inconsistency or otherwise interfere with an action taken or planned by another agency. The Department of the Interior has sole direct responsibility to conduct the World Heritage nomination process. The revisions will clear up confusion regarding the schedule for nomination of sites to the World Heritage List and the criteria for eligibility to be considered. Participation by other agencies (and private parties) continues to be strictly voluntary, as before.

(3) This rule does not alter the budgetary effects or entitlements, grants, user fees, or loan programs or the rights or obligations of their recipients. Participation in the World Heritage program is strictly voluntary and requires the active cooperation of all owners of nominated property. The changes will provide more accurate and usable information to owners and other interested parties.

(4) This rule does not raise novel legal or policy issues. The changes simply update aspects of the schedule and criteria for consideration and do not alter other aspects of the program.

Regulatory Flexibility Act

The Department of the Interior certifies that this document will not have a significant economic effect on a substantial number of small entities under the Regulatory Flexibility Act (5 U.S.C. 601 et seq.) A Regulatory Flexibility Analysis is not required. This rule, which only revises the calendar and criteria for consideration, will impact only owners voluntarily seeking to have their sites considered for listing. Nomination and approval of properties for inclusion on the World Heritage List recognizes their universally significant values and enhances public understanding and appreciation of heritage conservation. Only a small number of select U.S. properties will be considered for World Heritage status. Small entities may provide information or assistance in the preparation of nominations, but such participation is completely voluntary on their part. In some instances, small entities may be reimbursed for providing detailed site information and analysis. Designation of a property as a World Heritage site may enhance its tourism value. Any effects would likely be of a very localized nature and may be beneficial to small entities in the surrounding area.

Small Business Regulatory Enforcement Fairness Act (SBREFA)

This rule is not a major rule under 5 U.S.C. 804(2), the Small Business Regulatory Enforcement Fairness Act. This rule:

a. Does not have an annual effect on the economy of $100 million or more. The changes relate solely to providing more accurate information on the World Heritage process to those who request it.

b. Will not cause a major increase in costs or prices for consumers, individual industries, Federal, State, or local government agencies, or geographic regions. The changes will modestly reduce costs to those who otherwise might have relied on inaccurate information.

c. Does not have significant adverse effects on competition, employment, investment, productivity, innovation, or the ability of U.S.-based enterprises to compete with foreign-based enterprises. The changes place U.S. enterprises at no competitive disadvantage because only U.S. properties are eligible for nomination by the United States and only with their owners' concurrence.

Executive Order 13211

On May 18, 2001, the President issued an Executive Order (Executive Order 13211) on regulations that significantly affect energy supply, distribution, and use. Executive Order 13211 requires agencies to prepare Statements of Energy Effects when undertaking certain actions. As this interim rule is not expected to significantly affect energy supplies, distribution, or use, this action is not a significant energy action and no Statement of Energy Effects is required.

Unfunded Mandates Reform Act

This rule does not impose an unfunded mandate on State, local, or tribal governments or the private sector of more than $100 million per year. The rule does not have a significant or unique effect on State, local, or tribal governments or the private sector. The World Heritage Program is a voluntary federal program. The interim rule will provide current information on designation procedures that are available to small governments, whose participation is strictly voluntary. No direct financial assistance, benefit, or penalty accompanies the act of nominating a site to the World Heritage List. A statement containing the information required by the Unfunded Mandates Reform Act (2 U.S.C. 1531 et seq.) is not required.

Takings (Executive Order 12630)

In accordance with Executive Order 12630, the rule does not have significant takings implications. The entirely voluntary nature of the program is explained fully in the statute (16 U.S.C. 470a-1, a-2 and in sections 73.7 (b)(ii) and 73.13 (a)(2) of the current regulations), the substance of which are not being modified. A takings implication assessment is not required

Federalism (Executive Order 12612)

In accordance with Executive Order 12612, the rule does not have sufficient Federalism implications to warrant the preparation of a Federalism Assessment. Adoption of the rule will permit States to make more informed decisions. The Department may request their assistance in carrying out its World Heritage mandate. However, since the World Heritage Convention provides additional recognition to certain select U.S. properties that usuallly are already committed to preservation; since participation by States and local communities is strictly voluntary; and since no direct Federal financial assistance or penalties accompany the act of nominating a site to the World Heritage List, this revision will simply provide current information to States and local governments for them to weigh in deciding whether to participate. A Federalism Assessment is not required.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required. The changes being made impose no information collection or record-keeping requirements on the public.

National Environmental Policy Act (NEPA)

This rule does not constitute a major federal action significantly affecting the quality of the human environment. A detailed statement under the National Environmental Policy Act of 1969 is not required. Based on this determination, this interim rule is categorically excluded from the procedural requirements of the National Environmental Policy Act (NEPA) by Departmental regulations in 516 DM 6 (49 FR 21438). Thus, neither an Environmental Assessment (EA) nor an Environmental Impact Statement (EIS) has been prepared.

Government-to-Government Relationship With Tribes

In accordance with the President's memorandum of April 29, 1994, “Government-to-Government Relations with Native American Tribal Governments” (59 FR 22951) and 512 DM 2, we have evaluated potential effects on federally recognized Indian tribes and have determined that there are no potential effects. Indian lands can be nominated to the World Heritage List only with the voluntary support of their owners. The changes in the regulations will provide current information on nomination procedures to the owners of Indian lands.

Clarity of This Regulation (Executive Order 12866)

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more (but shorter) sections? (A “section” appears in bold type and is preceded by the symbol “§ ” and a numbered heading; for example, § 73.7 World Heritage nomination process.) (5) Is the description of the rule in the Supplementary Information section of the preamble helpful in understanding the proposed rule? (6) What else could we do to make the rule easier to understand?

Please send a copy of any comments that concern how we could make this rule easier to understand to: Office of Regulatory Affairs, Department of the Interior, Room 7229, 1849 C Street, NW., Washington, DC 20240. You may also e-mail the comments to this address: Exsec@ios.doi.gov.

List of Subjects in 36 CFR Part 73

Foreign relations, Historic preservation.

Accordingly, we amend 36 CFR part 73 as follows:

PART 73—WORLD HERITAGE CONVENTION

1. The authority for part 73 continues to read as follows:

Authority: 94 Stat. 3000; 16 U.S.C. 470 a-1,a-2, d.

2. Revise § 73.7 to read as follows:

§ 73.7 World Heritage nomination process.

(a) What is the U.S. World Heritage nomination process? (1) The Assistant Secretary for Fish and Wildlife and Parks (“Assistant Secretary”) is the designated official who conducts the United States World Heritage Program and periodically nominates properties to the World Heritage List on behalf of the United States. The National Park Service (NPS) provides staff support to the Assistant Secretary.

(2) The Assistant Secretary initiates the process for identifying candidate properties for the World Heritage List and subsequently preparing, evaluating, and approving U.S. nominations for them by publishing a First Notice in the Federal Register. This notice includes a list of candidate sites (formally known as the Indicative Inventory of Potential Future U.S. World Heritage nominations) and requests that public and private sources recommend properties for nomination.

(3) The Assistant Secretary, with advice from the Federal Interagency Panel for World Heritage (“Panel”), may propose for possible nomination a limited number of properties from the Indicative Inventory.

(4) Property owners, in cooperation with NPS, voluntarily prepare a detailed nomination document for their property that has been proposed for nomination. The Panel reviews the accuracy and completeness of draft nominations, and makes recommendations on them to the Assistant Secretary.

(5) The Assistant Secretary decides whether to nominate any of the proposed properties and transmits approved United States nominations, through the Department of State, to the World Heritage Committee to be considered for addition to the World Heritage List.

(b) What requirements must a U.S. property meet to be considered for nomination to the World Heritage List? A property in the United States must satisfy the following requirements established by law and one or more of the World Heritage Criteria before the Assistant Secretary can consider it for World Heritage nomination:

(1) The property must be nationally significant. For the purposes of this section, a property qualifies as “nationally significant” if it is:

(i) A property that the Secretary of the Interior has designated as a National Historic Landmark (36 CFR part 65) or a National Natural Landmark (36 CFR part 62) under provisions of the 1935 Historic Sites Act (Public Law 74-292; 49 Stat. 666; 16 U.S.C. 461 et seq.);

(ii) An area the United States Congress has established as nationally significant; or

(iii) An area the President has proclaimed as a National Monument under the Antiquities Act of 1906 (16 U.S.C. 433).

(2) The property's owner(s) must concur in writing to the nomination.

(i) If a unit of United States government (Federal, State, and/or local) owns or controls the property, a letter from the owner(s) demonstrates concurrence.

(ii) If private parties own or control the property, they must provide the protection agreement outlined in § 73.13(c).

(iii) All owners must concur before the Assistant Secretary can include their property within a World Heritage nomination. For example, a responsible Federal management official can concur for the unit, but cannot concur for any non-Federal property interest within the boundaries of the unit. NPS will seek the concurrence of those who own or control any non-Federal property interest if we determine that the property interest is integral to the entire property's outstanding universal values.

(3) The nomination document must include evidence of such legal protections as may be necessary to ensure the preservation of the property and its environment. Section 73.13 identifies the distinct protection requirements for public and private properties.

(c) How does the U.S. World Heritage nomination process begin? The Assistant Secretary, through the NPS, will periodically publish a First Notice in the Federal Register to begin the U.S. World Heritage nomination process. This notice, among other things:

(1) Sets forth the schedule and procedures for identifying proposed U.S. nominations to the World Heritage List. It includes specific deadlines for receipt of suggestions and comments, and for preparing and approving nomination documents for properties proposed as U.S. nominations;

(2) Includes the Indicative Inventory of Potential Future U.S. World Heritage Nominations (Indicative Inventory), solicits recommendations on which properties on it should be nominated, and requests suggestions of properties that should be considered for addition to it; and

(3) Identifies any special requirements that properties must satisfy to be considered for nomination.

(d) What is the Indicative Inventory and how is it used? (1) The World Heritage Convention (Article 11) requests each signatory nation to submit a list of candidate sites for the World Heritage List. These lists are also known as tentative lists, or Indicative Inventories. The NPS compiles and maintains the U.S. Indicative Inventory, which is formally known as the Indicative Inventory of Potential Future U.S. World Heritage Nominations. It is a list of cultural and natural properties located in the United States that, based on preliminary examination, appear to qualify for the World Heritage List and that the United States may consider for nomination to the List.

(2) Inclusion of a property on the Indicative Inventory does not confer World Heritage status on it, but merely indicates that the Assistant Secretary may further examine the property for possible nomination. The Assistant Secretary selects proposed nominations from among the potential future nominations included on the Indicative Inventory. Thus, the Assistant Secretary uses the Indicative Inventory as the basis for selecting United States nominations, and it provides a comparative framework within which to judge the outstanding universal value of a property. Any agency, organization, or individual may recommend additional properties, with accompanying documentation, for inclusion on the Indicative Inventory. Ordinarily, a property must have been listed on the Indicative Inventory before the Assistant Secretary can consider it for nomination.

(3) The Assistant Secretary, in cooperation with the Panel and other sources as appropriate, decides whether to include a recommended property on the Indicative Inventory. If a property is included, NPS will list it the next time we publish the Indicative Inventory in the Federal Register. The Assistant Secretary periodically transmits a copy of the Indicative Inventory, including documentation on each property's location and significance, to the World Heritage Committee for use in evaluation of nominations.

(e) How are U.S. World Heritage nominations proposed? (1) After the First Notice's comment period expires, NPS compiles all suggestions and comments. The Assistant Secretary then reviews the comments and suggestions and works in cooperation with the Federal Interagency Panel for World Heritage to decide whether to identify any properties as proposed U.S. nominations. In addition to how well the property satisfies the World Heritage criteria (§ 73.9) and the legislative requirements outlined in paragraph (b)(1) of this section, the Assistant Secretary may consider:

(i) How well the particular type of property (i.e., theme or region) is represented on the World Heritage List;

(ii) The balance between cultural and natural properties already on the List and those under consideration;

(iii) Opportunities that the property affords for public visitation, interpretation, and education;

(iv) Potential threats to the property's integrity or its current state of preservation; and

(v) Other relevant factors, including public interest and awareness of the property.

(2) Selection as a proposed nomination indicates that a property appears to qualify for World Heritage status and that the Assistant Secretary will encourage the preparation of a complete nomination document for the property.

(f) Who is notified when U.S. World Heritage nominations are proposed? (1) The Assistant Secretary for Fish and Wildlife and Parks publishes notice of decisions on proposed U.S. nominations in the Federal Register (Second Notice). If any properties are identified as proposed nominations, the Assistant Secretary also notifies the following parties in writing:

(i) The owner(s) of lands or interests of land that are to be included in the nomination; and

(ii) The House Resources Committee and the Senate Energy and Natural Resources Committee.

(2) The Second Notice advises the recipients of the proposed action, references these rules, and sets forth the process for preparing a nomination. NPS also prepares and issues a press release on the proposed nomination.

(g) How is a U.S. World Heritage Nomination prepared? NPS coordinates arrangements for the preparation of a complete nomination document for each proposed property. If you are a property owner(s), you, in cooperation with NPS, are responsible for preparing the draft nomination and for gathering documentation in support of it. NPS oversees the preparation of the nomination and ensures that it follows the procedures contained in these rules and the format and procedural guidelines established by the World Heritage Committee. Each nomination is prepared according to the schedule set forth in the First Notice.

(h) How is a draft U.S. World Heritage nomination evaluated? The draft nomination document serves as the basis for the Assistant Secretary's decision to nominate the property to the World Heritage Committee. NPS coordinates the review and evaluation of draft World Heritage nominations. We distribute copies to all members of the Federal Interagency Panel for World Heritage and request comments regarding the significance of the property and the adequacy of the draft nomination. Afterward, we compile the recommendations and comments received from the members of the Panel.

(i) How is a U.S. World Heritage nomination approved and submitted? (1) The Assistant Secretary, based on personal evaluation and the recommendations from the Panel, may nominate a property that appears to meet the World Heritage criteria to the World Heritage Committee on behalf of the United States. The Assistant Secretary sends an approved nomination document, through the Department of State, to the World Heritage Committee. The nomination document should be transmitted so that the World Heritage Committee receives it before the deadline established for any given year.

(2) Nomination by the United States does not place a property on the World Heritage List. The World Heritage Committee must consider and approve the nomination, usually at a meeting during the year following its nomination, before it is inscribed as a World Heritage Site.

(j) Who is notified when a U.S. property has been nominated to the World Heritage List? (1) Upon approving a nomination, the Assistant Secretary notifies the following parties in writing (Third Notice):

(i) The owner(s) of land or interests in land that are included in the nomination;

(ii) The House Resources Committee; and

(iii) The Senate Energy and Natural Resources Committee.

(2) The Assistant Secretary also publishes notice of the United States World Heritage nomination in the Federal Register. In addition, NPS issues a press release on the nomination.

3. Revise § 73.9 to read as follows:

§ 73.9 World Heritage criteria.

(a) What are the World Heritage criteria and how are they applied? The World Heritage Committee uses the following criteria to evaluate cultural and natural properties nominated to the World Heritage List. To qualify for addition to the World Heritage List, sites must meet one or more of the criteria. For information on how to apply the criteria, you should consult their annotated text in the Operational Guidelines for the World Heritage Convention. The Operational Guidelines are published periodically by the World Heritage Centre. You may obtain copies of the World Heritage Convention, the Operational Guidelines, and other program information upon request to the Office of International Affairs of the National Park Service, 1849 C Street, NW., Room 2242, Washington, DC 20240. The World Heritage Convention and the Operational Guidelines are also posted on the World Heritage Centre's Web site at www.unesco.org/whc.

(b) What are the cultural criteria? The criteria for the inclusion of cultural properties in the World Heritage List should always be seen in relation to one another and should be considered in the context of the definition set out in Article 1 of the Convention. A monument, group of buildings or site—as defined in Article 1 of the Convention—which is nominated for inclusion in the World Heritage List will be considered to be of outstanding universal value for the purpose of the Convention when the Committee finds that it meets one or more of the following criteria and the test of authenticity:

(1) Each property nominated should therefore:

(i) Represent a masterpiece of human creative genius; or

(ii) Exhibit an important interchange of human values, over a span of time or within a cultural area of the world, on developments in architecture or technology, monumental arts, town-planning or landscape design; or

(iii) Bear a unique or at least exceptional testimony to a cultural tradition or to a civilization which is living or which has disappeared; or

(iv) Be an outstanding example of a type of building or architectural or technological ensemble or landscape which illustrates a significant stage(s) in human history; or

(v) Be an outstanding example of a traditional human settlement or land-use which is representative of a culture (or cultures), especially when it has become vulnerable under the impact of irreversible change; or

(vi) Be directly or tangibly associated with events or living traditions, with ideas, or with beliefs, with artistic and literary works of outstanding universal significance (the Committee considers that this criterion should justify inclusion in the List only in exceptional circumstances and in conjunction with other criteria cultural or natural).

(2) In addition to the criteria in paragraphs (b)(1)(i) through (b)(1)(vi) of this section, the sites should also meet the test of authenticity in design, material, workmanship or setting and in the case of cultural landscapes their distinctive character and components (the Committee stressed that reconstruction is only acceptable if it is carried out on the basis of complete and detailed documentation on the original and to no extent on conjecture) and have adequate legal and/or contractual and/or traditional protection and management mechanisms to ensure the conservation of the nominated cultural properties or cultural landscapes.

(c) What are the natural criteria? A natural heritage property—as defined in Article 2 of the Convention—which is submitted for inclusion in the World Heritage List will be considered to be of outstanding universal value for the purposes of the Convention when the Committee finds that it meets one or more of the following criteria specified by the Operational Guidelines and fulfills the conditions of integrity:

(1) Sites nominated should therefore:

(i) Be outstanding examples representing major stages of earth's history, including the record of life, significant on-going geological processes in the development of landforms, or significant geomorphic or physiographic features; or

(ii) Be outstanding examples representing significant on-going ecological and biological processes in the evolution and development of terrestrial, fresh water, coastal and marine ecosystems and communities of plants and animals; or

(iii) Contain superlative natural phenomena or areas of exceptional natural beauty and aesthetic importance; or

(iv) Contain the most important and significant natural habitats for in-situ conservation of biological diversity, including those containing threatened species of outstanding universal value from the point of view of science or conservation.

(2) In addition to the criteria in paragraphs (c)(1)(i) through (c)(1)(iv) of this section, the sites should also fulfill the following conditions of integrity:

(i) The sites described in paragraph (c)(1)(i) of this section should contain all or most of the key interrelated and interdependent elements in their natural relationships.

(ii) The sites described in paragraph (c)(1)(ii) of this section should have sufficient size and contain the necessary elements to demonstrate the key aspects of processes that are essential for the long-term conservation of the ecosystems and the biological diversity they contain.

(iii) The sites described in paragraph (c)(1)(iii) of this section should be of outstanding aesthetic value and include areas that are essential for maintaining the beauty of the site.

(iv) The sites described in paragraph (c)(1)(iv) of this section should contain habitats for maintaining the most diverse fauna and flora characteristic of the biogeographic province and ecosystems under consideration.

(3) The sites should have a management plan. When a site does not have a management plan at the time when it is nominated for the consideration of the World Heritage Committee, the State Party concerned should indicate when such a plan will become available and how it proposes to mobilize the resources required for the preparation and implementation of the plan. The State Party should also provide other document(s) (e.g. operational plans) which will guide the management of the site until such time when a management plan is finalized.

Dated: June 28, 2001.
Joseph E. Doddridge,
Acting Assistant Secretary for Fish and Wildlife and Parks.

[FR Doc. 01-28256 Filed 11-16-01; 8:45 am]

BILLING CODE 4310-70-P